DEPARTMENT OF THE INTERIOR

Fish and Wildlife Service

[FWS-R9-WSR-2009-N0056] [91400-5110-POLI-7B and 91400-9410-POLI-7B]

Proposed Information Collection; OMB Control Number 1018-0109; Wildlife and Sport Fish Grants and Cooperative Agreements

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on June 30, 2009. We may not conduct or sponsor and a person is not required to respond to a collection of information unless it displays a currently valid OMB control number.

DATES: Your comments must be received by May 18, 2009.

ADDRESSES: Send your comments on the IC to Hope Grey, Information Collection Clearance Officer, Fish and Wildlife Service, MS 222-ARLSQ, 4401 North Fairfax Drive, Arlington, VA 22203 (mail); hope_grey@fws.gov (e-mail).

FOR FURTHER INFORMATION CONTACT: To request additional information about this IC, contact Hope Grey by mail or e-mail (see ADDRESSES) or by telephone at (703) 358-2482.

SUPPLEMENTARY INFORMATION:

I. Abstract

We administer 18 wildlife and sport fish financial assistance programs. We provide most of this financial assistance as grants, but cooperative agreements are possible if the Federal Government is substantially involved in carrying out the project. You can find a description of most programs in the Catalog of Domestic Federal Assistance (CDFA). For those programs without a CDFA number, see the authority.

Program | CDFA No. | Authority | Implementing Regulations
Clean Vessel Act | 15.616 | 16 U.S.C. 777g(c) | 50 CFR 85
Coastal Wetlands Planning, Protection, and Restoration Act | 15.614 | 16 U.S.C. 3951-3956 | 50 CFR 84
Cooperative Endangered Species Conservation Fund | 15.615 | 16 U.S.C. 1531 et seq. | 50 CFR 81
Everglades Restoration | None | Pub. L. 104-127; 16 U.S.C. 460 l-4 - l-11 | None
Fisheries Restoration and Irrigation Mitigation | None | 16 U.S.C. 777 | None
Hunter Education and Safety | 15.626 | 16 U.S.C. 669h-1 | 50 CFR 80
Landowner Incentive | 15.633 | Pub. L. 110-5 | None
Multistate Conservation Grants | 15.628 | 16 U.S.C. 669h-2; 16 U.S.C. 777m | None
National Outreach and Communication | 15.653 | 16 U.S.C. 777g(d) | None
Research Grants (Generic) | 15.650 | 16 U.S.C. 753a; 16 U.S.C. 460(l-4 - l-11);16 U.S.C. 1531-1543 | None
Service Training and Technical Assistance (Generic Training) | 15.649 | 16 U.S.C. 661 and 16 U.S.C. 742f | None
Sport Fish Restoration | 15.605 | 16 U.S.C. 777-777n (except 777e-1) | 50 CFR 80
Sportfishing and Boating Safety Act (Boating Infrastructure Grants) | 15.622 | 16 U.S.C. 777g and g-1 | 50 CFR 86
State Wildlife Grants | 15.634 | Pub. L. 110-329 | None
Tribal Landowner Incentive | 15.638 | Pub. L. 110-5 | None
Tribal Wildlife Grants | 15.639 | Pub. L. 110-329 | None
Wildlife Conservation and Restoration | 15.625 | 16 U.S.C. 669b and 669c | None
Wildlife Restoration | 15.611 | 16 U.S.C. 669-669k | 50 CFR 80

To compete for financial assistance funds, you must submit an application that describes in substantial detail project locations, benefits, funding, and other characteristics. Materials to assist applicants in formulating project proposals are available on Grants.gov. We use the application to determine:

(1) Eligibility for the grant.

(2) The scale of resource values or relative worth of the project.

(3) The effect of the project on environmental and cultural resources.

(4) How well the proposed project will meet the purposes of the program's establishing legislation.

Persons or entities receiving grants must submit periodic performance reports that contain information necessary for us to track costs and accomplishments.

II. Data

OMB Control Number: 1018-0109.

Title: Wildlife and Sport Fish Grants and Cooperative Agreements, 50 CFR 80, 81, 84, 85, and 86.

Service Form Number(s): None.

Type of Request: Revision of a currently approved collection.

Affected Public: States; the Commonwealths of Puerto Rico and the Northern Mariana Islands; the District of Columbia; the territories of Guam, U.S. Virgin Islands, and American Samoa; federally-recognized tribal governments; institutions of higher education; and nongovernmental organizations.

Respondent's Obligation: Required to obtain or retain a benefit.

Frequency of Collection: We require project narrative statements annually for new or extended projects. We require amendments on occasion when key elements of a project change. We require quarterly and final performance reports in the National Outreach and Communication Program and annual and final performance reports in the other 17 programs. We may require more frequent reports in the other 17 programs under the conditions stated at 43 CFR 12.52 and 43 CFR 12.914.

Activity | Number of annual respondents | Number of annual responses | Completion time per response | Annual burden hours
Initial Application (project narrative) | 215 | 2,000 | 52 hours | 104,000
Amendment | 150 | 1,500 | 28 hours | 42,000
Performance Reports | 215 | 6,000 | 11 hours | 66,000
Totals | 580 | 9,500 |  | 212,000

III. Request for Comments

We invite comments concerning this IC on:

(1) Whether or not the collection of information is necessary, including whether or not the information will have practical utility;

(2) The accuracy of our estimate of the burden for this collection of information;

(3) Ways to enhance the quality, utility, and clarity of the information to be collected; and

(4) Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: March 3, 2009
Hope Grey,
Information Collection Clearance Officer, Fish and Wildlife Service.

FR Doc. E9-5794 Filed 3-17-09; 8:45 am

BILLING CODE 4310-55-S